DEPARTMENT OF AGRICULTURE

Forest Service

Forest Resource Coordinating Committee

AGENCY: Forest Service, USDA.

ACTION: Notice of meeting; Correction.

SUMMARY: The Forest Service published a document in the Federal Register of January 31, 2013, concering a notice of meeting for the Forest Resource Coordinating Committee. The document contained an incorrect date.

FOR FURTHER INFORMATION CONTACT: Maya Solomon, Forest Resource Coordinating Committee Program Coordinator, 202-205-1376 or Ted Beauvais, Deginated Federal Officer, 202-205-1190.

Correction

In the Federal Register of January 31, 2013, in FR Doc. 2013-02091, on page 6806, in the third column, correct the ADDRESSES caption to read: Written comments regarding agenda items must be received by March 29, 2013.

Dated: March 21, 2013.
Paul Ries,
Associate Deputy Chief, State & Private Forestry.

[FR Doc. 2013-06926 Filed 3-25-13; 8:45 am]

BILLING CODE 3410-11-P